DEPARTMENT OF HEALTH AND HUMAN SERVICES

Agency for Healthcare Research and Quality Contract Review Meeting

In accordance with section 10(a) of the Federal Advisory Committee Act as amended (5 U.S.C., Appendix 2), announcement is made of an Agency for Healthcare Research and Quality (AHRQ) Technical Review Committee (TRC) meeting. This TRC's charge is to provide review of contract proposals and recommendations to the Director, AHRQ, with respect to the technical merit of proposals submitted in response to a Request for Proposals (RFPs) regarding “Developing Tools to Enhance Quality and Patient Safety Through Medical Informatics”, Issued on January 31, 2001. The contract will constitute AHRQ's participation in the Small Business Innovation Research program.

The upcoming TRC meeting will be closed to the public in accordance with the Federal Advisory Committee Act (FACA), section 10(d) (of 5 U.S.C., Appendix 2, implementing regulations, and procurement regulations, 41 CFR 101-6.1023 and 48 CFR 315.604(d). The discussions at this meeting of contract proposals submitted in response to the above-referenced RFP are likely to reveal proprietary information and personal information concerning individuals associated with the proposals. Such information is exempt from disclosure under the above-cited FACA provision that protects the free exchange of candid views, and under the procurement rules that prevent undue interference with Committee and Department operations.

Name of TRC: The Agency for Healthcare Research and Quality—“Developing Tools to Enhance Quality and Patient Safety Through Medical Informatics”.

Date: July 16 & 17, 2001 (Closed to the public).

Place: Sheraton Four Points Hotel, 8400 Wisconsin Avenue, Embassy I Room, Bethesda, MD 20814.

Contact Person: Anyone wishing to obtain information regarding this meeting should contact Eduardo Ortiz, Center for Primary Care Research, Agency for Healthcare Research and Quality, 6010 Executive Blvd, Suite 201, Rockville, Maryland, 20852, 301-594-6236.

Dated: June 6, 2001.
John M. Eisenberg,
Director.

[FR Doc. 01-15289 Filed 6-15-01; 8:45 am]

BILLING CODE 4160-90-M